DEPARTMENT OF DEFENSE

Department of the Army; Corps of Engineers

Availability of the Final Environmental Impact Statement (FEIS) for the Relocation of Bogue Inlet Channel Between Emerald Isle and Hammocks Beach State Park, and the Placement of the Dredged Material Onto Emerald Isle Beach, in Carteret County, NC

AGENCY: Department of the Army, U.S. Army Corps of Engineers, DoD.

ACTION: Notice of availability.

SUMMARY: In accordance with the requirements of the National Environmental Policy Act (NEPA), the U.S. Army Corps of Engineers (COE) Wilmington District, Wilmington Regulatory Field Office announces the availability of a Regulatory Program Final EIS for the Bogue Inlet Channel Erosion Response Project. The applicant, The Town of Emerald Isle, is requesting Department of the Army authorization, pursuant to section 404 of the Clean Water Act and section 10 of the Rivers and Harbor Act, for the relocation of Bogue Inlet Channel to protect residential homes and town infrastructures, and to place the dredged material on approximately 5.0 miles of beach for nourishment. As required by NEPA, the Final EIS describes the Applicant's preferred alternative and other alternatives, which were evaluated during the scoping process, to provide shoreline protection to residents along the inlet. The preferred alternative proposes to move the main ebb channel in Bogue Inlet to a more central location between the west end of Bogue Banks and the east end of Bear Island (Hammocks Beach State Park). The main ebb channel through Bogue Inlet presently occupies a position juxtaposed to the west end of the town of Emerald Isle and is causing severe erosion that threatens development in the subdivision known as The Pointe. The relocation of the main ebb channel to a central location would restore the channel to a position it occupied in the late 1970's and eliminate the erosive impact of tidal currents on the east shoulder of the inlet. A portion of the material removed to relocate the main ebb channel would be used to close the existing channel with the balance of the material used to nourish the shoreline on the west end of the Town of Emerald Isle.

DATES: The Public commenting period on the FEIS will end on May 4, 2004. Written comments must be received at the address listed below no later than 5 p.m.

ADDRESSES: Copies of comments and questions regarding the FEIS may be addressed to: U.S. Army Corps of Engineers, Wilmington District, Regulatory Division, Attn: File Number 2001-00632, Post Office Box 1890, Wilmington, NC 28402-1890.

FOR FURTHER INFORMATION CONTACT: Questions about the proposed action and the FEIS can be directed to Mr. Mickey Sugg, Wilmington Regulatory Field Office, telephone: (910) 251-4811, facsimile (910) 251-4025, or e-mail at mickey.t.sugg@usace.army.mil.

SUPPLEMENTARY INFORMATION: The FEIS examines potential impacts to Essential Fish Habitat (EFH), Threatened and Endangered Species (specifically the Piping Plover and Piping Plover Critical Habitat), and includes a comprehensive mitigation and monitoring plan to minimize these potential impacts and to evaluate unforeseen effects of the projects. Such mitigation includes the securing of newly formed lands or spits and prohibiting development on these properties and the implementation of a comprehensive bird management plan that is expected to reduce the potential impacts to newly formed bird forage, resting, feeding, and nesting areas. In addition, aerial photography will be taken for three years after completion of the project in order to assess any project effects and to evaluate unknown risk of shoreline erosion to the oceanfront of Emerald Isle and the inlet shoreline of Bear Island.

The primary purpose of the channel relocation project is to create a stable channel that will divert tidal flow away from the Pointe area of Emerald Isle. Therefore, the design focus is on developing channel dimensions that will capture the majority of the ebb tidal flow through the inlet. An added feature of the overall design would be the closure of the existing channel by constructing a sand dike across the existing channel in the vicinity of the Pointe. The dimensions of the relocated channel will be based on characteristics of the existing ebb tide channel, numerical model studies of tides and currents in the inlet, and channel stability criteria. The numerical model will also be used to evaluate the need for and impacts of closing the existing channel as well as assess the impacts of the repositioned channel on salinity intrusion and flow patterns throughout the entire inlet/estuary complex.

Apart from the channel dimensions, the new channel must be positioned so that it does not cause adverse impacts on the adjacent shorelines or result in unacceptable loss of estuarine habitat. The selection of a channel location is being based on detailed geomorphic analysis of the inlet and adjacent shorelines, conducted by Dr. William J. Cleary, University of North Carolina at Wilmington. The geomorphic analysis will utilize an assortment of aerial photographs of the inlet covering the period from 1938 to 2001. However the primary emphasis will be on changes in the inlet and the adjacent shorelines between 1973 and 2001. The geomorphic analysis consists of an evaluation of the following: (a) Location of the channel midpoint relative to the Pointe, (b) the orientation of the inlet's ebb tide delta channel, (c) the configuration of the ebb tide delta, i.e., the percent of the ebb tide delta east and west of the main ebb channel, (d) inlet shoulder changes (the Pointe shoreline and the west tip of Bear Island), (e) changes in the ocean shoreline on the west end of Bogue Banks and the east end of Bear Island (Hammocks Beach State Park), and (f) changes in the interior marsh islands (primarily Dudley Island and Island 2). The measured changes the adjacent shorelines, inlet shoulders, and the interior marshes will be related to changes in the physical make up of the inlet including the position and orientation of the ebb tide delta channel and the configuration of the ebb tide delta.

Geomorphic analysis indicates that the cumulative shoreline changes on each island were averaged over 3,500 feet of shoreline immediately adjacent to the inlet. When the percent of the ebb tide delta on the Bogue Banks side is small, as it was between 1984 and 2001, the bar channel was located close to Bogue Banks and the portion of the delta on the Bogue Banks side was providing some degree of wave sheltering for the west end of the island. The particular ebb tide delta configuration resulted in a considerable amount of accretion along the 3,500-foot shoreline immediately east of the inlet while Bear Island experienced an almost mirror image response on its ocean shoreline, i.e., erosion. Even though the present ebb tide delta configuration is favorable for the extreme west end of Emerald Isle, the eastward migration of the inlet channel that led to the existing inlet configuration also caused the inlet shoreline of Bogue Banks (the Pointe shoreline) to erode. Not only has the Bogue Banks inlet shoreline eroded in response to the eastward movement of the channel, so has the Bear Island ocean and inlet shorelines. Based on these and numerous other comparisons, the preliminary results of the geomorphic analysis indicates that a centrally located channel, approximating the position and orientation of the channel in 1978, may be beneficial to the inlet shoreline on Bogue Banks (the Pointe shoreline) and the east end of Bear Island.

Copies of the Final EIS will also be available on our regulatory home page at http://www.saw.usace.army.mil/WETLANDS/, and click on Emerald Isle Bogue Inlet Channel Relocation Project heading at the top right corner under Fast Track.

Dated: April 1, 2004.
Charles R. Alexander, Jr.,
Colonel, U.S. Army, District Engineer.

[FR Doc. 04-7968 Filed 4-7-04; 8:45 am]

BILLING CODE 3710-GN-M